DEPARTMENT OF COMMERCE

National Oceanic and Atmospheric Administration

RIN 0648-XP79

Taking Marine Mammals Incidental to Specified Activities; Offshore Exploratory Drilling in the Beaufort Sea off Alaska

AGENCY: National Marine Fisheries Service (NMFS), National Oceanic and Atmospheric Administration (NOAA), Commerce.

ACTION: Notice; withdrawal of an incidental take authorization application.

SUMMARY: Notice is hereby given that Shell Offshore, Inc. (Shell) has withdrawn its application for an Incidental Harassment Authorization (IHA). The following action is related to a proposed IHA to Shell for the take of small numbers of marine mammals, by Level B harassment, incidental to conducting open-water offshore exploratory drilling on outer continental shelf (OCS) oil lease blocks in the Beaufort Sea off Alaska during the 2008/2009 open-water season.

ADDRESSES: The documents and the application related to this action are available by writing to P. Michael Payne, Chief, Permits, Conservation, and Education Division, Office of Protected Resources, National Marine Fisheries Service, 1315 East-West Highway, Silver Spring, MD 20910-3225, or by telephoning the contact listed here.

A copy of the application containing a list of the references used in this document may be obtained by writing to the address specified above, telephoning the contact listed below (see FOR FURTHER INFORMATION CONTACT), or online at: http://www.nmfs.noaa.gov/pr/permits/incidental.htm. Documents cited in this notice may be viewed, by appointment, during regular business hours, at the aforementioned address.

FOR FURTHER INFORMATION CONTACT: Candace Nachman or Ken Hollingshead, NMFS, 301-713-2289.

SUPPLEMENTARY INFORMATION: On February 24, 2008, NMFS received a revision to Shell's October 19, 2007, application requesting an IHA. The requested IHA was for an authorization to take, by Level B harassment, small numbers of several species of marine mammals incidental to conducting open-water offshore exploratory drilling on OCS oil lease blocks in the Beaufort Sea off Alaska during the 2008/2009 open-water season. On May 13, 2009, Shell informed NMFS that they would no longer be conducting exploratory drilling in the 2008/2009 season and requested the withdrawal of their IHA application. During the time since submitting its January 2007 Beaufort Sea OCS Lease Exploration Plan for 2007-2009 to the Minerals Management Service, Shell's priority exploration drilling locations for its Beaufort Sea leases have changed.

Dated: June 10, 2009.
James H. Lecky,
Director, Office of Protected Resources, National Marine Fisheries Service.

[FR Doc. E9-14719 Filed 6-22-09; 8:45 am]

BILLING CODE 3510-22-S